DEPARTMENT OF TRANSPORTATION

Federal Motor Carrier Safety Administration

[Docket No. FMCSA-2007-28043]

Hours of Service (HOS) of Drivers; American Pyrotechnics Ass'n. (APA) Application for Exemption From the 14-Hour Rule; Extension of Current APA Exemption Period; Correction

AGENCY: Federal Motor Carrier Safety Administration (FMCSA), DOT.

ACTION: Notice of application for and extension of exemption; request for comments; correction.

SUMMARY: The FMCSA published a document in the Federal Register of May 9, 2016, concerning a request for comments on the American Pyrotechnics Association (APA) requested additions to and deletions from the list of motor carriers previously granted exemptions for the 2015 and 2016 Independence Day fireworks shows. The document published a date of June 8, 2016, but did not require comments to be submitted by June 8.

DATES: Comments must be received on or before June 8, 2016.

FOR FURTHER INFORMATION CONTACT: For information concerning this notice, contact Ms. Pearlie Robinson, FMCSA Driver and Carrier Operations Division; Office of Carrier, Driver and Vehicle Safety Standards; Telephone: (202) 366-4325. Email: MCPSD@dot.gov. If you have questions on viewing or submitting material to the docket, contact Docket Services, telephone (202) 366-9826.

SUPPLEMENTARY INFORMATION:

Correction

1. In the Federal Register of May 9, 2016, in FR Doc. 2016-10820, on page 28115, in the third column, correct the DATES paragraph to read:

DATES: Comments must be received on or before June 8, 2016.

Issued on: May 10, 2016.
Larry W. Minor,
Associate Administrator for Policy.

[FR Doc. 2016-11456 Filed 5-13-16; 8:45 am]

BILLING CODE 4910-EX-P